NATIONAL TRANSPORTATION SAFETY BOARD

Sunshine Act Meeting

TIME AND DATE: 9:30 a.m., Tuesday, November 19, 2019.

MATTER TO BE CONSIDERED:

59687 Aircraft Accident Report—Left Engine Failure and Subsequent Depressurization, Southwest Airlines Flight 1380, Boeing 737-7H4, N772SW, Philadelphia, Pennsylvania, April 17, 2018

TIME AND DATE: 1:30 p.m., Tuesday, November 19, 2019.

MATTER TO BE CONSIDERED:

59392 Highway Accident Report—Collision Between Vehicle Controlled by Developmental Automated Driving System and Pedestrian, Tempe, Arizona, March 18, 2018

STATUS: The two items are open to the public.

PLACE: NTSB Conference Center, 429 L'Enfant Plaza SW, Washington, DC 20594.

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, November 13, 2019.

The public may view the meeting via a live or archived webcast by accessing a link under “News & Events” on the NTSB home page at www.ntsb.gov.

Schedule updates, including weather-related cancellations, are also available at www.ntsb.gov.

FOR MORE INFORMATION CONTACT: LaSean McCray at (202) 314-6047 or by email at lasean.mccray@ntsb.gov.

FOR MEDIA INFORMATION CONTACT: Keith Holloway at (202) 314-6100 or by email at keith.holloway@ntsb.gov for the Aircraft Accident Report and Eric Weiss at (202) 314-6100 or by email at eric.weiss@ntsb.gov for the Highway Accident Report.

Dated: Friday, October 25, 2019.
LaSean R. McCray,
Alternate Federal Register Liaison Officer.

[FR Doc. 2019-23736 Filed 10-28-19; 11:15 am]

BILLING CODE 7533-01-P